FEDERAL COMMUNICATIONS COMMISSION

47 CFR Parts 0 and 1

[OMD Docket No. 04-251; FCC 04-163]

Amendment of the Commission's Rules

AGENCY: Federal Communications Commission.

ACTION: Final rule.

SUMMARY: This document amends the Commission's rules to clarify the responsibilities of the Managing Director with respect to financial management matters and with respect to implementation of the Commission's directives in a recent Order released October 3, 2003, concerning the administration of the Universal Service Fund (USF) and Telecommunications Relay Services Fund (TRS Fund). The rules adopted herein are intended to provide clear direction to the Managing Director to respond quickly and efficiently to matters concerning the proper accounting and reporting for the Commission's financial transactions and compliance with relevant and applicable federal financial management and reporting statutes. In addition, we amend our rules to authorize the Billing and Collection Agent for North American Numbering Plan Administration and the Administrators of the USF and the TRS Fund to issue FCC Registration Numbers for carriers who have not previously been assigned one.

DATES: Effective April 27, 2005.

ADDRESSES: Federal Communications Commission, 445 12th Street, SW., Washington, DC 20554.

FOR FURTHER INFORMATION CONTACT: Regina W. Dorsey, Special Assistant to the Chief Financial Officer, at 1-202-418-1993, or by e-mail at Regina.Dorsey@fcc.gov.

SUPPLEMENTARY INFORMATION: In the matter of the Commission's financial management matters and its administration of the issuance of FCC Registration Numbers. Amendment of sections 0.11, 0.231, and 1.8002 of the Commissions rules Adopted: July 2, 2004, Released: January 7, 2005.

The Commission will not send a copy of this Order pursuant to the Congressional Review Act, see 5 U.S.C. 801(a)(1)(A), because the adopted rules relate to agency organization, procedure or practice that do not “substantially affect the rights or obligations of non-agency parties. Pursuant to sections 4(i), 4(j), 5(c), 303(r), 47 U.S.C. 154(i), 154(j), 155(c), 251(e), 303(r) of the Communications Act of 1934, as amended, 47 CFR. parts 0 and 1 are amended as set forth below, effective upon publication in the Federal Register.

Lists of Subjects

47 CFR Part 0

Commission organization.

47 CFR Part 1

Practice and procedure.

Federal Communications Commission.
Marlene H. Dortch,
Secretary.

Rule Changes

For the reasons discussed in the preamble, the Federal Communications Commission amends 47 CFR parts 0 and 1 as follows:

PART 0—COMMISSION ORGANIZATION

1. The authority citation for part 0 continues to read as follows:

Authority: Secs. 5, 48 Stat. 1068, as amended; 47 U.S.C. 155.

2. Section 0.11 is amended by revising paragraph (a)(8) to read as follows:

§ 0.11 Functions of the Office.

(a) * * *

(8) Plan and manage the administrative affairs of the Commission with respect to the functions of personnel and position management; labor-management relations; training; budget and financial management; accounting for the financial transactions of the Commission and preparation of financial statements and reports; information management and processing; organization planning; management analysis; procurement; office space management and utilization; administrative and office services; supply and property management; records management; personnel and physical security; and international telecommunications settlements.

* * * * *

3. Section 0.231 is amended by adding new paragraphs (j) and (k) to read as follows:

§ 0.231 Authority delegated.

* * * * *

(j) The Managing Director or his designee is delegated the authority, after seeking the opinion of the General Counsel, to determine, in accordance with generally accepted accounting principles for federal agencies the organizations, programs (including funds), and accounts that are required to be included in the financial statements of the Commission.

(k) The Managing Director, or his designee, after seeking the opinion of the General Counsel, is delegated the authority to direct all organizations, programs (including funds), and accounts that are required to be included in the financial statements of the Commission to comply with all relevant and applicable federal financial management and reporting statutes.

* * * * *

PART 1—PRACTICE AND PROCEDURE

4. The authority citation for part 1 continues to read as follows:

Authority: 15 U.S.C. 79 et seq.; 47 U.S.C. 151, 154(i), 154(j), 155, 157, 225, and 303(r).

5. Section 1.8002 is amended by adding new paragraph (e) to read as follows:

§ 1.8002 Obtaining an FRN.

* * * * *

(e) An FRN may be assigned by the Billing and Collection Agent for North American Numbering Plan Administration and the Administrators of the Universal Service Fund and the Telecommunications Relay Services Fund. In each instance, the Billing and Collection Agent for North American Numbering Plan Administration and the Administrators of the Universal Service Fund and the Telecommunications Relay Services Fund shall promptly notify the entity of the assigned FRN.

[FR Doc. 05-8344 Filed 4-26-05; 8:45 am]

BILLING CODE 6712-01-P